FEDERAL MARITIME COMMISSION

Ocean Transportation Intermediary License Revocations

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR Part 515, effective on the corresponding date shown below:

License Number: 876F.

Name: S.H. Pomerance Co., Inc.

Address: Cargo Bldg. 80, JFK Int'l Airport, Room 242/244, Jamaica, NY 11430.

Date Revoked: February 16, 2010.

Reason: Failed to maintain a valid bond.

License Number: 003486F.

Name: Mozart Forwarding, Inc.

Address: 535 Seaview Avenue, Bridgeport, CT 06607.

Date Revoked: February 13, 2010.

Reason: Failed to maintain a valid bond.

License Number: 012142NF.

Name: Seaborne International, Inc. dba Seaborne Express Line.

Address: 8901 South La Cienega Blvd., Suite 101, Inglewood, CA 90301.

Date Revoked: February 6, 2010.

Reason: Failed to maintain valid bonds.

License Number: 015847N.

Name: Straightline Logistics, Inc.

Address: One Cross Island Plaza, Suite 203-G, Rosedale, NY 11422.

Date Revoked: February 13, 2010.

Reason: Failed to maintain a valid bond.

License Number: 015917N.

Name: Golden Jet-L.A., Inc. dba Golden Jet Freight Forwarders dba Golden Jet USA, Inc.

Address: 12333 S. Van Ness Avenue, Suite 201, Hawthorne, CA 90250.>

Date Revoked: February 18, 2010.

Reason: Failed to maintain a valid bond.

License Number: 16886N.

Name: Maritrans Shipping, Ltd.

Address: 170 East Sunrise Highway, Valley Stream, NY 11581.

Date Revoked: February 15, 2010.

Reason: Failed to maintain a valid bond.

License Number: 017017NF.

Name: American Global Logistics, Inc. dba American Global Shipping.

Address: 388 2nd Avenue, Suite 160, New York, NY 10010.

Date Revoked: January 28, 2010.

Reason: Failed to maintain valid bonds.

License Number: 018033N.

Name: Adrienne Shipping Line, Inc.

Address: 525 South Douglas Street, Suite 100, El Segundo, CA 90245.

Date Revoked: February 14, 2010.

Reason: Surrendered license voluntarily.

License Number: 018281N.

Name: Sun Ocean Logistics Corp.

Address: 5250 West Century Blvd., Suite 530, Los Angeles, CA 90045.

Date Revoked: February 11, 2010.

Reason: Failed to maintain a valid bond.

License Number: 020479F.

Name: Karon Jones dba Keene Machinery and Export.

Address: 2810 Goodnight Trail, Corinth, TX 76210.

Date Revoked: February 11, 2010.

Reason: Failed to maintain a valid bond.

Sandra L. Kusumoto,
Director, Bureau of Certification and Licensing.

[FR Doc. 2010-5102 Filed 3-9-10; 8:45 am]

BILLING CODE 6730-01-P